DEPARTMENT OF EDUCATION

Credit Enhancement for Charter School Facilities Program

AGENCY: Office of Innovation and Improvement, Department of Education.

ACTION: Notice inviting applications for new awards for fiscal year (FY) 2011; correction.

Overview Information:

Catalog of Federal Domestic Assistance (CFDA) Number: 84.354A.

SUMMARY: On March 11, 2011, the Department of Education published in the Federal Register (76 FR 13365) a notice inviting applications for new awards for FY 2011 for the Credit Enhancement for Charter School Facilities program (March 11 NIA). This notice makes two corrections to the March 11 NIA.

FOR FURTHER INFORMATION CONTACT: Ann Margaret Galiatsos. Telephone: (202) 205-9765; or by e-mail: ann.galiatsos@ed.gov; or by mail: (Attention: Credit Enhancement for Charter School Facilities Program), U.S. Department of Education, 400 Maryland Avenue, SW., Room 4W259, Washington, DC 20202.

If you use a telecommunications device for the deaf (TDD), call the Federal Relay Service (FRS), toll free, at 1-800-877-8339.

Individuals with disabilities can obtain this document in an accessible format (e.g., braille, large print, audiotape, or computer diskette) on request to the contact listed in this section.

SUPPLEMENTARY INFORMATION:

Correction

On pages 13365, 13366, and 13367 of the March 11 NIA, we indicated that there would be only one pre-application meeting and that it would be held on April 4, 2011 at 9:00 a.m., Washington, DC time. We are correcting the March 11 NIA to reflect that the Department is offering a second pre-application meeting at 2:00 p.m. on April 5, 2011. The corrections are as follows:

On page 13365, second column, the “Date of Pre-Application Meeting” section is corrected to read “Dates of Pre-Application Meetings: April 4, 2011 at 9:00 a.m., Washington, DC time and April 5, 2011 at 2:00 p.m., Washington, DC time.”

On page 13366, third column, and page 13367, first column, the “Date of Pre-Application Meeting” section is corrected to read as follows:

“Dates of Pre-Application Meetings: The Department will hold two pre-application meetings for prospective applicants. The first pre-application meeting will be held on April 4, 2011 at 9:00 a.m., Washington, DC time, at the U.S. Department of Education, Room 1W128, 400 Maryland Avenue, SW., Washington, DC. The second pre-application meeting will be held on April 5, 2011 at 2:00 p.m., Washington, DC time, via conference call.

Interested parties are invited to participate in these meetings to discuss the purpose of the program, priorities, selection criteria, application requirements, submission requirements, and reporting requirements. Interested parties may participate in the first pre-application meeting either by conference call or in person. Interested parties may participate in the second pre-application meeting by conference call.

The site for the first pre-application meeting is accessible by Metro on the Blue, Orange, Green, and Yellow lines at the Seventh Street and Maryland Avenue exit of the L'Enfant Plaza station. After the first meeting, program staff will be available from 12:00 p.m. to 2:00 p.m. on that same day to provide information and technical assistance through individual consultation.

To participate by conference call in either the first or second pre-application meetings, the conference line number is 1-888-456-0285 and the participant pass code is 1704354. If you use a telecommunications device for the deaf (TDD), call the Federal Relay Service (FRS), toll free, at 1-800-877-8339.

Individuals interested in attending either meeting are encouraged to preregister by e-mailing their name, organization, and contact information with the subject heading PRE-APPLICATION MEETING to ann.galiatsos@ed.gov. There are no registration fees for attending these meetings.

For further information about the pre-application meetings, contact Ann Margaret Galiatsos, U.S. Department of Education, 400 Maryland Avenue, SW., Room 4W259, Washington, DC 20202-5970. Telephone: (202) 205-9765 or by e-mail: ann.galiatsos@ed.gov.”

Program Authority: 20 U.S.C. 7223-7223j.

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available via the Federal Digital System at: http://www.gpo.gov/fdsys.

Dated: March 28, 2011.
James H. Shelton, III,
Assistant Deputy Secretary for Innovation and Improvement.

[FR Doc. 2011-7636 Filed 3-30-11; 8:45 am]

BILLING CODE 4000-01-P